DEPARTMENT OF ENERGY

Federal Energy Regulatory Commission

Combined Notice of Filings #2

Take notice that the Commission received the following electric rate filings:

Docket Numbers: ER10-1556-010.

Applicants: Longview Power, LLC.

Description: Triennial Market Power Analysis for Northeast Region of Longview Power, LLC.

Filed Date: 6/28/23.

Accession Number: 20230628-5077.

Comment Date: 5 p.m. ET 8/28/23.

Docket Numbers: ER14-1236-002.

Applicants: Elgin Energy Center, LLC.

Description: Compliance filing: Informational Filing Pursuant to Schedule 2 of the PJM OATT & Request for Waiver to be effective N/A.

Filed Date: 6/28/23.

Accession Number: 20230628-5076.

Comment Date: 5 p.m. ET 7/19/23.

Docket Numbers: ER17-1373-001.

Applicants: Rocky Road Power, LLC.

Description: Compliance filing: Informational Filing Pursuant to Schedule 2 of the PJM OATT & Request for Waiver to be effective N/A.

Filed Date: 6/28/23.

Accession Number: 20230628-5079.

Comment Date: 5 p.m. ET 7/19/23.

Docket Numbers: ER22-1999-003.

Applicants: Number Three Wind LLC.

Description: Triennial Market Power Analysis for Northeast Region of Number Three Wind LLC.

Filed Date: 6/28/23.

Accession Number: 20230628-5073.

Comment Date: 5 p.m. ET 8/28/23.

Docket Numbers: ER23-435-000.

Applicants: System Energy Resources, Inc.

Description: Refund Report: SERI Refund Report (EL20-72 and ER23-435) to be effective N/A.

Filed Date: 6/28/23.

Accession Number: 20230628-5123.

Comment Date: 5 p.m. ET 7/19/23.

Docket Numbers: ER23-2280-000.

Applicants: Southwest Power Pool, Inc.

Description: § 205(d) Rate Filing: 1875R6 Kansas Electric Power Cooperative, Inc. NITSA and NOA to be effective 9/1/2023.

Filed Date: 6/28/23.

Accession Number: 20230628-5047.

Comment Date: 5 p.m. ET 7/19/23.

Docket Numbers: ER23-2281-000.

Applicants: Southwest Power Pool, Inc.

Description: § 205(d) Rate Filing: 1148R34 American Electric Power NITSA NOAs to be effective 6/1/2023.

Filed Date: 6/28/23.

Accession Number: 20230628-5049.

Comment Date: 5 p.m. ET 7/19/23.

Docket Numbers: ER23-2282-000.

Applicants: Southwest Power Pool, Inc.

Description: § 205(d) Rate Filing: 4081 Board of Municipal Utilities of the City of Sikeston, Missouri NITSA NOA to be effective 6/1/2023.

Filed Date: 6/28/23.

Accession Number: 20230628-5072.

Comment Date: 5 p.m. ET 7/19/23.

Docket Numbers: ER23-2283-000.

Applicants: Southwest Power Pool, Inc.

Description: § 205(d) Rate Filing: 3127R7 Montana-Dakota Utilities Co. NITSA NOA to be effective 9/1/2023.

Filed Date: 6/28/23.

Accession Number: 20230628-5081.

Comment Date: 5 p.m. ET 7/19/23.

Docket Numbers: ER23-2284-000.

Applicants: Midcontinent Independent System Operator, Inc.

Description: § 205(d) Rate Filing: 2023-06-28_MRES Request for Rate Incentives and Formula Rate Revisions to be effective 9/1/2023.

Filed Date: 6/28/23.

Accession Number: 20230628-5082.

Comment Date: 5 p.m. ET 7/19/23.

Docket Numbers: ER23-2285-000.

Applicants: Allegheny Ridge Wind Farm, LLC.

Description: Compliance filing: Revised Market-Based Rate Tariff to be effective 6/29/2023.

Filed Date: 6/28/23.

Accession Number: 20230628-5083.

Comment Date: 5 p.m. ET 7/19/23.

Docket Numbers: ER23-2286-000.

Applicants: Caprock Wind LLC.

Description: Compliance filing: Revised Market-Based Rate Tariff to be effective 6/29/2023.

Filed Date: 6/28/23.

Accession Number: 20230628-5088.

Comment Date: 5 p.m. ET 7/19/23.

Docket Numbers: ER23-2287-000.

Applicants: Cedar Creek Wind Energy, LLC.

Description: Compliance filing: Revised Market-Based Rate Tariff to be effective 6/29/2023.

Filed Date: 6/28/23.

Accession Number: 20230628-5094.

Comment Date: 5 p.m. ET 7/19/23.

Docket Numbers: ER23-2288-000.

Applicants: Chaparral Springs, LLC.

Description: Compliance filing: Revised Market-Based Rate Tariff to be effective 6/29/2023.

Filed Date: 6/28/23.

Accession Number: 20230628-5102.

Comment Date: 5 p.m. ET 7/19/23.

Docket Numbers: ER23-2289-000.

Applicants: Crescent Ridge LLC.

Description: Compliance filing: Revised Market-Based Rate Tariff to be effective 6/29/2023.

Filed Date: 6/28/23.

Accession Number: 20230628-5104.

Comment Date: 5 p.m. ET 7/19/23.

Docket Numbers: ER23-2290-000.

Applicants: Lone Tree Wind, LLC.

Description: Compliance filing: Revised Market-Based Rate Tariff to be effective 6/29/2023.

Filed Date: 6/28/23.

Accession Number: 20230628-5108.

Comment Date: 5 p.m. ET 7/19/23.

Docket Numbers: ER23-2291-000.

Applicants: Mendota Hills, LLC.

Description: Compliance filing: Revised Market-Based Rate Tariff to be effective 6/29/2023.

Filed Date: 6/28/23.

Accession Number: 20230628-5115.

Comment Date: 5 p.m. ET 7/19/23.

Docket Numbers: ER23-2292-000.

Applicants: Mountain Breeze Wind, LLC.

Description: Compliance filing: Revised Market-Based Rate Tariff to be effective 6/29/2023.

Filed Date: 6/28/23.

Accession Number: 20230628-5118.

Comment Date: 5 p.m. ET 7/19/23.

Docket Numbers: ER23-2293-000.

Applicants: Panorama Wind, LLC.

Description: Compliance filing: Revised Market-Based Rate Tariff to be effective 6/29/2023.

Filed Date: 6/28/23.

Accession Number: 20230628-5126.

Comment Date: 5 p.m. ET 7/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 28, 2023.
Debbie-Anne A. Reese,
Deputy Secretary.

[FR Doc. 2023-14169 Filed 7-3-23; 8:45 am]

BILLING CODE 6717-01-P